ENVIRONMENTAL PROTECTION AGENCY

[FRL-9919-99-OW]

Information Session; Stakeholder Input on Implementation of the Water Infrastructure Finance and Innovation Act of 2014

AGENCY: Environmental Protection Agency (EPA).

ACTION: Notice.

SUMMARY: The Environmental Protection Agency (EPA) is convening an information and stakeholder input session in Washington, DC on December 8, 2014. The purpose of the session is to discuss implementation of the Water Infrastructure Finance and Innovation Act of 2014 (WIFIA). WIFIA is an innovative financing mechanism for water-related infrastructure of national or regional significance. It was signed into law on June 11, 2014. EPA will be providing an overview of the statute, assistance options and terms, and suggesting ideas for implementing the program. The agency would like participants to discuss project ideas and potential selection criteria; opportunities, challenges and questions about implementation; and future stakeholder engagement. The intended audience is municipal, state and regional utility decision makers; private finance sector representatives; and other interested organizations and parties.

DATES: The session in Washington, DC will be held on December 8, 2014 from 9 a.m. to 4:30 p.m., eastern standard time.

ADDRESSES: The session will be held in Room 1153 at the EPA William Jefferson Clinton East Building, 1201 Constitution Avenue NW., Washington, DC 20004. All attendees must go through a metal detector, sign in with the security desk and show government-issued photo identification to enter government buildings.

To Register: Please register at the following link: http://goo.gl/1dSOXA. Members of the public are invited to participate in the session as capacity allows.

FOR FURTHER INFORMATION CONTACT: For further information about this notice, including registration information, contact Peter Shanaghan, EPA Headquarters, Office of Water, Office of Ground Water and Drinking Water 202-564-3848; or Jordan Dorfman, EPA Headquarters, Office of Water, Office of Wastewater Management at 202-564-0614; or email: WIFIA@epa.gov.

Dated: November 24, 2014.
Andrew D. Sawyers,
Director, Office of Wastewater Management.

[FR Doc. 2014-28394 Filed 12-1-14; 8:45 am]

BILLING CODE 6560-50-P